DEPARTMENT OF TRANSPORTATION

Federal Railroad Administration

Federal Highway Administration

Environmental Impact Statement: Orange, Polk, and Hillsborough Counties in Florida

AGENCIES: Federal Railroad Administration (FRA) and Federal Highway Administration (FHWA), DOT.

ACTION: Notice of intent to prepare an environmental impact statement.

SUMMARY: The FRA and FHWA are issuing this notice to advise the public that the agencies will prepare an environmental impact statement (EIS) for a proposed Florida High Speed Rail project between Orlando and Tampa, Florida.

FOR MORE INFORMATION CONTACT: David Valenstein, Environmental Program Manager, Federal Railroad Administration, 1120 Vermont Avenue (Mail Stop 20), Washington DC 20590, (202) 493-6368 and/or George Hadley, Environmental Programs Coordinator, Federal Highway Administration, 227 North Bronough Street, Tallahassee, Florida 32301, (850) 942-9650 extension 3011.

SUPPLEMENTARY INFORMATION: The FRA and FHWA in cooperation with the Florida High Speed Rail Authority, will prepare an EIS for a proposal being considered by the Authority to construct a high speed rail project between Orlando, and Tampa, Florida. The project would be approximately 90 miles long. The proposed project may include acquisition of right of way and construction of guide way structures and track, stations, park and ride lots, storage and maintenance facilities, and other ancillary facilities. The facilities would be build to allow trains to operate at speeds in excess of 120 miles per hour. The proposed high speed rail system would provide a new mode of intercity travel to link major metropolitan areas and interface with airports, mass transit and highways to provide added capacity to meet increases in intercity travel demand in a manner sensitive to, and protective of Florida's unique natural resources.

Alternatives under consideration include: (1) The “no build alternative”; (2) build alternatives in a variety of corridors between Orlando and Tampa; and, (3) a variety of high speed rail technology. The corridor alternatives traverse areas where various social, economical, and environmental resources and issues are believed to exist. The social, economical and environmental resources and issues may include but are not limited to: community and neighborhood, noise, wetlands, cultural resources, water quality, safety, residential and business relocations, wildlife and habitat, land use planning, parklands, economic, and floodplains.

Notice describing the proposed action and soliciting comments will be sent to appropriate Federal, State and local agencies and to private organizations and citizens who have expressed an interest in this proposal. The Federal agencies and The Authority will hold interagency and public meetings and public hearings in several locations in the project area. Information on the time and place of the public meetings and hearings will be provided in the appropriate local news media. There are plans to hold a scoping meeting on April 30, 2002 in the Orlando/Tampa, Florida area.

Comments and suggestions are invited from all interested parties to insure the full range of issues related to the proposed action and alternatives are addressed and all significant issues are identified. Comments and questions concerning the proposed action should be directed to the addresses provided above.

(Catalog of Federal Domestic Assistance Program Number 20.205, Highway Research, Planning and Construction. The regulations implementing Executive Order 12372 regarding intergovernmental consultation on Federal programs and activities apply to this program.)
Issued on: March 19, 2002.
James E. St. John,
FHWA Division Administrator, Tallahassee, Florida.

[FR Doc. 02-7278 Filed 3-26-02; 8:45 am]

BILLING CODE 4910-22-M